ENVIRONMENTAL PROTECTION AGENCY

[EPA-HQ-OPP-2010-0014; FRL-9388-6]

Notice of Receipt of Requests To Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. EPA intends to grant these requests at the close of the comment period for this announcement unless the Agency receives substantive comments within the comment period that would merit its further review of the requests, or unless the registrants withdraw its requests. If these requests are granted, any sale, distribution, or use of products listed in this notice will be permitted after the registration has been cancelled only if such sale, distribution, or use is consistent with the terms as described in the final order.

DATES: Comments must be received on or before December 9, 2013.

ADDRESSES: Submit your comments, identified by docket identification (ID) number EPA-HQ-OPP-2010-0014, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal request by mail to: Pesticide Re-Evaluation Division (7508P), Office of Pesticide Programs, Environmental Protection Agency, 1200 Pennsylvania Ave. NW., Washington, DC 20460-0001. ATTN: John W. Pates, Jr.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the agency taking?

This notice announces receipt by the Agency of requests from registrants to cancel 54 pesticide products registered under FIFRA section 3 or 24(c). These registrations are listed in sequence by registration number (or company number and 24(c) number) in Table 1 of this unit.

Unless the Agency determines that there are substantive comments that warrant further review of the requests or the registrants withdraw their requests, EPA intends to issue an order in the Federal Register canceling all of the affected registrations.

Table 1—Registrations With Pending Requests for Cancellation
Registration No. | Product name | Chemical name
000264-00668 | Liberty ATZ Herbicide | Atrazine, Glufosinate.
000264-00784 | Renounce 20WP Insecticide | Cyfluthrin.
000264-00985 | GB34 Concentrate Biological Fungicide | Bacillus pumilus strain GB34.
000264-00986 | GB34 Technical Biological Fungicide | Bacillus pumilus strain GB34.
000264-01007 | Decis 0.2 EC | Deltamethrin.
000264-01008 | Decis 0.2 EC Gel | Deltamethrin.
000264-01012 | Decis 1.0 Gel Insecticide | Deltamethrin.
000264-01117 | Yield Shield FS 200 | Bacillus pumilus strain GB34.
000400-00469 | Dimilin 25W Mushrooms | Diflubenzuron.
000400-00470 | Dimilin 35W for Pasturegrass Mosquitoes | Diflubenzuron.
000400-00471 | Micromite 25WS | Diflubenzuron.
000400-00511 | Dimilin 80WGS | Diflubenzuron.
000432-00954 | Finale Super Concentrate Weed, Grass and Brush Killer | Glufosinate.
000432-00955 | Finale Ready-To-Use Weed and Grass Killer | Glufosinate.
000432-00956 | Finale Concentrate Weed, Grass and Brush Killer | Glufosinate.
000655-00802 | Prentox Larva-Lur Contains Propoxur | Propoxur.
009779-00262 | MCPA Amine Herbicide | MCPA, dimethylamine salt.
009779-00265 | MCPA LV Ester | MCPA, 2-ethylhexyl ester.
053883-00220 | Oryzalin 2G | Oryzalin, Benfluralin.
AL-090001 | Reflex Herbicide | Sodium salt of fomesafen.
AR-080004 | Reflex Herbicide | Sodium salt of fomesafen.
AR-080005 | Superwham! (Alternate Name Forwham ! EZ) | Propanil.
AR-080006 | Riceshot | Propanil.
AR-080007 | Ricepro | Quinclorac, Propanil.
AR-080008 | Duet | Propanil, Bensulfuron-methyl.
AR-080009 | Superwham! (Alternate Name For Wham! EZ) | Propanil.
AR-080013 | Ricebeaux | Propanil, Thiobencarb.
AR-120001 | Ricebeaux Herbicide | Thiobencarb, Propanil.
AR-120002 | Ricebeaux | Thiobencarb, Propanil.
AR-120003 | Ricepro | Quinclorac, Propanil.
CO-060007 | Gramoxone Inteon | Paraquat dichloride.
FL-090006 | Knockout | Diquat dibromide.
GA-090005 | Milestone VM | Triisopropanolamine salt of aminopyralid.
GA-100004 | Endigo ZC | Thiamethoxam lambda-Cyhalothrin.
MO-120006 | V-10142 AG Herbicide | Imazosulfuron.
ND-020009 | Bravo 720 | Chlorothalonil.
OR-010006 | Cobra Herbicide | Lactofen.
OR-040015 | Ethrel Brand Ethephon Plant Regulator | Ethephon.
OR-040031 | Rovral 4 Flowable Fungicide | Iprodione.
OR-050017 | Simazine 4L | Simazine.
OR-070002 | Chateau Herbicide WDG | Flumioxazin.
OR-070019 | Acramite-4SC | Bifenazate.
OR-070022 | RTU-Vitavax-Thiram Seed Protectant Fungicide | Thiram, Carboxin.
OR-070028 | Define SC Herbicide | Flufenacet.
OR-070030 | Define SC Herbicide | Flufenacet.
OR-080020 | DuPont Direx 4L Herbicide | Diuron.
OR-100004 | Chateau Herbicide WDG | Flumioxazin.
OR-120009 | Palisade 2EC | Trinexapac-ethyl.
WA-000021 | Orthene 97 Pellets | Acephate.
WA-010038 | Crossbow | 2,4-D butoxyethyl ester acetic acid (3,5,6-trichloro-2-pyridinyl) oxy)-,2-butoxyethel ester.
WA-020012 | Echo 720 | Chlorothalonil.
WA-060017 | Orthene 97 | Acephate.
WA-810064 | Orthene 75 S Soluble Powder | Acephate.
WA-960024 | Orthene 75 S Soluble Powder | Acephate.

Table 2 of this unit includes the names and addresses of record for all registrants of the products in Table 1 of this unit, in sequence by EPA company number. This number corresponds to the first part of the EPA registration numbers of the products listed in this unit.

Table 2—Registrants Requesting Voluntary Cancellation
EPA Company No. | Company name and address
264:
OR-040015; OR-040022; OR-040031; OR-070022; OR-070028; OR-070030 | Bayer CropScience, LP, 2 T.W. Alexander Dr., P.O. Box 12014, Research Triangle Park, NC 27709.
400:
OR-070019 | Chemtura Corporation, 199 Benson Rd., Middlebury, CT 06749.
432 | Bayer Environmental Science, A Division of Bayer CropScience, LP, 2 T.W. Alexander Dr., P.O. Box 12014, Research Triangle Park, NC 27709.
655 | Prentis, LLC, Agent: Pyxis Regulatory Consulting, Inc., 4110 136th St., NW., Gig Harbor, WA 98332.
9779:
OR-080020 | Winfield Solutions, LLC, P.O. Box 64589, St. Paul, MN 55164-058.
53883 | Control Solutions, Inc., 5903 Genoa Red Bluff, Pasadena, TX 77507-1041.
AL-090001; AR-080004; CO-060007; FL-090006; GA-100004; ND-020009; OR-120009 | Syngenta Crop Protection, LLC, 410 Swing Rd., P.O. Box 18300, Greensboro, NC 27419-8300.
AR-080005; AR-080006; AR-080007; AR-080008; AR-080009; AR-080013; AR-120001; AR-120002; AR-120003 | Riceco, LLC, 5100 Poplar Ave., Suite 2428, Memphis, TN 38137.
GA-090005; WA-010038 | Dow AgroSciences, LLC, 9330 Zionsville Rd., 308/2E, Indianapolis, IN 46268-1054.
MO-120006; OR-100004; OR-010006; OR-070002 | Valent U.S.A. Corporation, 1600 Riviera Ave., Suite 200, Walnut Creek, CA 94596.
OR-050017 | Loveland Products, P.O. Box 1286, Greeley, CO 80632-1286.
WA-000021; WA-060017; WA-810064; WA-960024 | Amvac Chemical Corporation, 4695 MacArthur Ct., Suite 1200, Newport Beach, CA 92660-1706.
WA-020012 | Sipcam Agro U.S.A., Inc., 2520 Meridian Pkwy., Suite 525, Durham, NC 27713.

III. What is the Agency's authority for taking this action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II., have not requested that EPA waive the 180-day comment period. Accordingly, EPA will provide a 180-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Table 1 of Unit II., EPA anticipates allowing registrants to sell and distribute existing stocks of these products for 1 year after publication of the Cancellation Order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

List of Subjects

Environmental protection, Pesticides and pests.

Dated: June 4, 2013.
Michael Goodis,
Acting, Director, Pesticide Re-Evaluation Division, Office of Pesticide Programs.

[FR Doc. 2013-13817 Filed 6-11-13; 8:45 am]

BILLING CODE 6560-50-P